Title 3—

The President

Executive Order 13651 of August 6, 2013

Prohibiting Certain Imports of Burmese Jadeite and Rubies

By the authority vested in me as President by the Constitution and the laws of the United States of America, including the International Emergency Economic Powers Act (50 U.S.C. 1701 et seq.) (IEEPA), the National Emergencies Act (50 U.S.C. 1601 et seq.), the Tom Lantos Block Burmese JADE (Junta's Anti-Democratic Efforts) Act of 2008 (Public Law 110-286) (the “JADE Act”), and section 301 of title 3, United States Code, and in order to take additional steps with respect to the national emergency declared in Executive Order 13047 of May 20, 1997, as modified in scope in Executive Order 13448 of October 18, 2007, and Executive Order 13619 of July 11, 2012, and relied upon for additional steps taken in Executive Order 13310 of July 28, 2003, Executive Order 13448 of October 18, 2007, Executive Order 13464 of April 30, 2008, and Executive Order 13619 of July 11, 2012,

I, BARACK OBAMA, President of the United States of America, hereby order:

Section 1. (a) The importation into the United States of any jadeite or rubies mined or extracted from Burma and any articles of jewelry containing jadeite or rubies mined or extracted from Burma is hereby prohibited.

(b) The prohibition in subsection (a) of this section applies except to the extent provided by statutes, or in regulations, orders, directives, or licenses that may be issued pursuant to this order, and notwithstanding any contract entered into or any license or permit granted prior to the effective date of this order.

Sec. 2. I hereby amend Executive Order 13310 of July 28, 2003, by revoking sections 3 and 8 of that order. The revocation of those provisions of Executive Order 13310 pursuant to this section shall not affect any violation of any rules, regulations, orders, licenses, or other forms of administrative action under that order during the period that those provisions of that order were in effect.

Sec. 3. (a) Any transaction that evades or avoids, has the purpose of evading or avoiding, causes a violation of, or attempts to violate any of the prohibitions set forth in this order is prohibited.

(b) Any conspiracy formed to violate any of the prohibitions set forth in this order is prohibited.

Sec. 4. For the purposes of this order:

(a) the term “jadeite” means any jadeite classifiable under heading 7103 of the Harmonized Tariff Schedule of the United States (HTS);

(b) the term “rubies” means any rubies classifiable under heading 7103 of the HTS;

(c) the term “articles of jewelry containing jadeite or rubies” means:

(i) any article of jewelry classifiable under heading 7113 of the HTS that contains jadeites or rubies; or

(ii) any article of jadeite or rubies classifiable under heading 7116 of the HTS;

(d) the term “person” means an individual or entity;

(e) the term “entity” means a partnership, association, trust, joint venture, corporation, group, subgroup, or other organization.

Sec. 5. Nothing in section 1 of this order shall prohibit transactions to the extent such prohibition would conflict with the international obligations of the United States under the Vienna Convention on Diplomatic Relations, the Vienna Convention on Consular Relations, the United Nations Headquarters Agreement, or other legal instruments providing equivalent privileges and immunities.

Sec. 6. Nothing in section 1 of this order shall prohibit the importation of any jadeite or rubies mined or extracted from Burma or any articles of jewelry containing jadeite or rubies mined or extracted from Burma that were previously exported from the United States, including those that accompanied an individual outside the United States for personal use, if they are reimported to the United States by the same person, without having been advanced in value or improved in condition by any process or other means while outside the United States.

Sec. 7. The Secretary of the Treasury, in consultation with the Secretary of State, is hereby authorized to take such actions, including the promulgation of rules and regulations, and to employ all powers granted to the President by IEEPA as may be necessary to carry out the purposes of this order. The Secretary of the Treasury may redelegate any of these functions to other officers and agencies of the United States Government consistent with applicable law. All agencies of the United States Government are hereby directed to take all appropriate measures within their authority to carry out the provisions of this order.

Sec. 8. Pursuant to section 5(i) of the JADE Act, I hereby determine and certify that it is in the national interest of the United States to waive, and hereby waive, the sanctions described in section 5(b) of the JADE Act. Except as authorized or exempt, transactions with persons included on the Department of the Treasury's List of Specially Designated Nationals and Blocked Persons continue to be prohibited pursuant to IEEPA.

Sec. 9. This order is not intended to, and does not, create any right or benefit, substantive or procedural, enforceable at law or in equity by any party against the United States, its departments, agencies, or entities, its officers, employees, or agents, or any other person.

Sec. 10. This order is effective at 12:01 a.m. eastern daylight time on August 7, 2013.

THE WHITE HOUSE,

August 6, 2013.

[FR Doc. 2013-19520

Filed 8-8-13; 11:15 am]

Billing code 3295-F3